DEPARTMENT OF THE INTERIOR

National Park Service

[NPS-WASO-NRNHL-32470; PPWOCRADP2, PCU00RP14.R50000]

National Historic Landmarks Committee of the National Park System Advisory Board Meeting

AGENCY: National Park Service.

ACTION: Meeting notice.

SUMMARY: Notice is hereby given in accordance with the Federal Advisory Committee Act that a meeting of the National Historic Landmarks Committee (Committee) of the National Park System Advisory Board (Board) will meet as indicated below.

DATES: The virtual meeting will be held on Thursday, October 21, 2021, from 10:00 a.m. to 5:00 p.m. (EST).

ADDRESSES: The meeting will be held virtually at the date and time noted above and instructions and access information will be provided online at https://www.nps.gov/subjects/nationalhistoriclandmarks/nhl-committee-meetings.htm. Please check the program website at https://www.nps.gov/subjects/nationalhistoriclandmarks/index.htm for the most current meeting information.

FOR FURTHER INFORMATION CONTACT: Dr. Lisa Davidson, Acting Program Manager, National Historic Landmarks Program, National Park Service, 1849 C Street NW, Mail Stop 7228, Washington, DC 20240, or email Lisa_Davidson@nps.gov.

SUPPLEMENTARY INFORMATION: The purpose of the meeting of the Committee is to evaluate nominations of historic properties in order to advise the Board of the qualifications of each property being proposed for National Historic Landmark designation, and to make recommendations regarding the possible designation of those properties as National Historic Landmarks to the Board at a future meeting. The Committee also makes recommendations to the Board regarding amendments to existing designations and proposals for withdrawal of designation. The members of the Committee are:

Mr. Joseph Emert, Chair

Dr. David G. Anderson

Dr. Ethan Carr

Dr. Julio Cesar Capó

Dr. Cynthia G. Falk

Dr. Richard Longstreth

Dr. Alexandra M. Lord

Mr. John L. Nau III

Dr. Vergil E. Noble

Dr. Toni M. Prawl

Mr. Adam Smith

Dr. Sharita Jacobs Thompson

Dr. Carroll Van West

Dr. Richard Guy Wilson

The meeting will be open to the public. Pursuant to 36 CFR part 65, any member of the public may file, for consideration by the Committee, written comments concerning the National Historic Landmark nominations, amendments to existing designations, or proposals for withdrawal of designation.

Comments should be submitted to Sherry A. Frear, Chief, National Register of Historic Places and National Historic Landmarks Program, National Park Service, 1849 C Street NW, Mail Stop 7228, Washington, DC 20240, or email nhl_info@nps.gov no later than October 20, 2021. All comments received will be provided to the Committee and the Board.

Purpose of the Meeting: The Board and its Committee may consider the following nominations:

California

POND FARM POTTERY, Sonoma County, CA

Colorado

WINKS PANORAMA, Gilpin County, CO

Connecticut

BARNUM INSTITUTE OF SCIENCE AND HISTORY, Bridgeport, CT

Idaho

STRATEGIC AIR COMMAND GROUND ALERT FACILITY, Mountain Home Air Force Base, Elmore County, ID

Indiana

MONTGOMERY COUNTY JAIL AND SHERIFF'S RESIDENCE, Crawfordsville, IN

Iowa

POTTAWATTAMIE COUNTY JAIL AND SHERIFF'S RESIDENCE, Council Bluffs, IA

Texas

RIO VISTA BRACERO RECEPTION CENTER, Socorro, TX

West Virginia

JEFFERSON COUNTY COURTHOUSE, Charlestown, WV

Proposed Amendments to Existing Designations

District of Columbia

CARTER G. WOODSON HOUSE (updated documentation), Washington, DC

Public Disclosure of Comments: Before including your address, phone number, email address, or other personal identifying information in your comment, you should be aware that your entire comment—including your personal identifying information—may be made publicly available at any time. While you can ask us in your comment to withhold your personal identifying information from public review, we cannot guarantee that we will be able to do so.

Authority: 36 CFR 65.5.

Alma Ripps,
Chief, Office of Policy.

[FR Doc. 2021-20277 Filed 9-17-21; 8:45 am]

BILLING CODE 4312-52-P